DEPARTMENT OF THE INTERIOR

Office of the Secretary

Request for Comments on Preparation of a Revised Departmental Strategic Plan

AGENCY: Office of the Secretary, Interior.

ACTION: Notice of request for comments on preparation of a revised Departmental Strategic Plan for FY 2002-2007.

SUMMARY: The Department of the Interior has begun the process of revising its strategic plan that covers the period of FY 2000-2005. The process for developing the new plan will place a major emphasis on end-results to be achieved by the Department and how these desired outcomes can be effectively measured to assess our performance. For the narrow purpose of this specific action, information is accessible on the Departmental website www.doi.gov.

DATES: Comments should be provided no later than March 1, 2002.

ADDRESSES: Written comments can be provided by:

E-mail: doistratplan@usgs.gov.

Fax: (202) 208-2619.

Mail: U.S. Department of the Interior, Office of the Secretary, Office of Planning and Performance Management, 1849 C Street, NW B MS 5258, Washington, DC 20240.

Note: The Department is experiencing delay in mail delivery. We recommend fax or use of an express delivery service.

FOR FURTHER INFORMATION CONTACT: LeRon Bielak (202) 208-1818.

SUPPLEMENTARY INFORMATION: The current plan, nine separate bureau and office plans and a Departmental Overview, will be replaced with a single, integrated plan.

Contrary to past practices of first publishing a draft plan for comment, the DOI is soliciting stakeholder views through a series of meetings and written comments on appropriate outcomes and strategies that the Department should achieve in six primary mission areas. These areas are:

1. Preservation of Natural and Cultural Resources.

2. Restoration of Natural and Cultural Resources.

3. Recreation Uses on Public Lands.

4. Use of Natural Resources (e.g., energy and non-energy minerals, timber, water, grazing land, etc.).

5. Meeting our Trust Responsibilities to Native Americans, Alaskan Natives, and Island Communities.

6. Role of Science in Meeting the Missions of the Department.

Information obtained from internal and external stakeholders will be used to develop a revised strategic plan that is consistent with the missions of the Department and the Government Performance and Results Act (GPRA) requirements.

Dated: January 31, 2002.
Norma Campbell,
Director, Office of Planning and Performance Management.

[FR Doc. 02-3577 Filed 2-13-02; 8:45 am]

BILLING CODE 4310-RK-P